DEPARTMENT OF COMMERCE

Census Bureau

Quarterly Services Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 9, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to David Lassman, U.S. Census Bureau, Room 2744-FOB 3, Washington, DC 20233-6500, and (301) 763-7202.

SUPPLEMENTARY INFORMATION:

I. Abstract

The U.S. Census Bureau conducts a quarterly survey of service industry production—the Quarterly Services Survey (QSS). The QSS is a principal economic indicator series that produces, for selected service industries, quarterly estimates of total operating revenue and the percentage of revenue by class of customer. The survey also produces estimates of total operating expenses from tax-exempt firms in industries that have a large not-for-profit component. In addition, for hospital services, the survey estimates the number of inpatient days and discharges. Current selected service industries include information services; professional scientific and technical services; hospitals; nursing and residential care facilities; and administrative and support and waste management and remediation services.

Data are collected from all of the largest firms and from a sample of small- and medium-sized businesses selected using a stratified sampling procedure. Each quarter the sample is updated to reflect the addition of new business births and firms and organizations that have gone out-of-business.

We release estimates from the QSS no later than 75 days after the end of the quarter.

The Bureau of Economic Analysis uses data gathered in this survey in developing its quarterly Gross Domestic Product (GDP) and GDP by industry estimates. The data provide the Federal Reserve Board and Council of Economic advisors with timely information to assess current economic performance. Other government and private stakeholders also benefit from a better understanding of important cyclical components of our economy.

We plan to expand the industry coverage of the QSS to include truck transportation; couriers and messengers; warehousing and storage; rental and leasing; ambulatory health care services; social assistance; arts, entertainment, and recreation services; repair and maintenance services; personal and laundry services; and, grant-making, civic, professional and similar organizations. For expanded industries, the survey will produce estimates of total operating revenue and operating expenses from tax-exempt firms in industries that have a large not-for-profit component. The expansion will include two new forms, QSS-4(A) and QSS-4(E).

II. Method of Collection

We will collect this information by mail, fax, internet, and a telephone follow-up.

III. Data

OMB Number: 0607-0907.

Form Number: QSS-1(A), QSS-1(E), QSS-2(A), QSS-2(E), QSS-3(A), QSS-3(E), QSS-4(A), QSS-4(E).

Type of Review: Regular submission.

Affected Public: Businesses or other for-profit organizations, not-for-profit institutions, and government hospitals.

Estimated Number of Respondents: 6,000 currently; 13,000 with industry expansion.

Estimated Time Per Response:

Form Number: QSS-1(A), QSS-1(E), QSS-2(A), QSS-2(E), QSS-3 (A), QSS-3(E): 15 minutes.

Form Number: QSS-4(A), QSS-4(E): 10 minutes.

Estimated Total Annual Burden Hours: 6,000 hours currently; 11,922 hours after expansion.

Estimated Total Annual Cost: The current cost to the respondents is estimated to be $148,020. The cost to the respondents for fiscal year 2007, after industry expansion, is estimated to be $294,116. Both figures are based on the median hourly salary of $24.67 for accountants and auditors. (Occupational Employment Statistics-Bureau of Labor Statistics “2004 National Occupational Employment and Wage Estimates”) http://www.bls.gov/oes/current/oes_13Bu.htm.

Respondent's Obligation: Voluntary.

Legal Authority: Title 13 , United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 6, 2006.
Madeleine Clayton,
Management Analyst, Office of the Chief Information Officer.

[FR Doc. E6-3410 Filed 3-9-06; 8:45 am]

BILLING CODE 3510-07-P